DEPARTMENT OF ENERGY

Notice of Inquiry on Preparation of Report to Congress on the Price-Anderson Act

AGENCY: Office of General Counsel, DOE.

ACTION: Extension of public comment period.

SUMMARY: On July 26, 2021, the Department of Energy (the “Department” or “DOE”) published in the Federal Register a notice of inquiry (“NOI”) and request for comment from the public concerning the need for continuation or modification of the provisions of the Price-Anderson Act (“PAA”) as administered by DOE. The PAA establishes a system of financial protection that encourages the safe and secure operation of nuclear power and other nuclear activities and assures equitable compensation of victims in the event of a nuclear incident. Comments from the public will assist the Department in the preparation of its report on the PAA to be submitted to Congress, as required by the Atomic Energy Act of 1954 (AEA), as amended. The NOI provided an August 25, 2021, deadline for comments. This notice announces a 60-day extension of the comment period to October 25, 2021.

DATES: The comment period for the NOI published on July 26, 2021 (86 FR 40032) is extended. DOE will accept written comments regarding the NOI submitted no later than October 25, 2021.

ADDRESSES: You may submit comments to: paareportnoi@hq.doe.gov. Although DOE has routinely accepted public comment submissions through a variety of mechanisms, including postal mail and hand delivery/courier, the Department has found it necessary to make temporary modifications to the comment submission process in light of the ongoing Covid-19 pandemic. DOE is currently suspending receipt of public comments via postal mail and hand delivery/courier. If a commenter finds that this change poses undue hardship, please contact the Office of the General Counsel staff at (202) 586-2177 to discuss the need for alternative arrangements. Once the Covid-19 pandemic health emergency is resolved, DOE anticipates resuming all of its regular options for public comment submission, including postal mail and hand delivery/courier.

FOR FURTHER INFORMATION CONTACT: Stewart Forbes, Office of the Assistant General Counsel for Civilian Nuclear Programs, U.S. Department of Energy, Room 6A-167, 1000 Independence Ave SW, Washington, DC 20585; Email: stewart.forbes@hq.doe.gov; and Phone: (202) 586-2177.

SUPPLEMENTARY INFORMATION: The PAA was enacted in 1957 as an amendment to the AEA to encourage the development of nuclear power and nuclear activities by establishing a system of financial protection for persons who may be liable for and persons who may be injured by a nuclear incident.¹ Since enactment, the PAA has been amended several times, most recently in 2005 as part of the Energy Policy Act of 2005 (Title VI, Subtitle A).² The recent amendments extended the authority of DOE to grant the DOE Price-Anderson indemnification until December 31, 2025 ³ and amended section 170p. of the AEA ⁴ to mandate, as it had done with a prior extension, that DOE submit a report to Congress by December 31, 2021 (“2021 Report”) on whether provisions of the PAA should be continued, modified, or eliminated. DOE issued a prior report to Congress pursuant to section 170p. in 1998 ⁵ (“1998 Report”) recommending renewal of the PAA, which was developed and informed by a public comment process.

¹ Price-Anderson Act, Public Law 85-256, 71 Stat. 576 (amending Atomic Energy Act of 1954, Pub. L. 83-703, codified as amended at 42 U.S.C. 2011 et. seq.). The pertinent sections of the PAA amended AEA § 11 and created AEA § 170, which are codified respectively at 42 U.S.C. 2014 and 2210.

² Price-Anderson Amendments Act of 2005, Public Law 109-58, tit. VI, 119 Stat. 779 (amending Atomic Energy Act § 170, codified as amended at 42 U.S.C. 2210 et. seq.).

³ Id. at tit. VI, § 602(b) (amending Atomic Energy Act § 170d.(1)(A), codified as amended at 42 U.S.C. 2210(d)(1)(A)).

⁴ Id. at tit. VI, § 606 (amending Atomic Energy Act § 170p., codified as amended at 42 U.S.C. 2210(p)).

⁵ U.S. Dep't of Energy, Report to Congress on the Price-Anderson Act (1998), https://www.energy.gov/sites/prod/files/gcprod/documents/paa-rep.pdf (to be referenced as “1998 Report”).

On July 26, 2021, DOE published a NOI in the Federal Register (86 FR 40032) requesting public comment to assist with its preparation of a report to Congress on the need for continuation or modification of the provisions of the PAA as administered by DOE. In the NOI, DOE provided an update on significant changes in law or circumstances since the 1998 Report, included a non-exhaustive list of questions and topics to be considered by commenters, and requested public comment to assist with preparation of the 2021 Report. The NOI requested public comment from interested persons to be submitted by August 25, 2021.

On July 29, 2021, DOE received comments from the Nuclear Energy Institute (“NEI”) expressing appreciation for the opportunity for public participation in the development of the 2021 Report while requesting additional time, a 30-day extension, to provide comments. NEI stated the additional time is necessary to collect views and comments from its members on the future of the PAA and to enable those comments to reflect meaningful and substantive responses to the specific enumerated questions and topics posed by DOE in the NOI. NEI also noted that granting the additional time is consistent with the extensions in the public comment deadlines provided by DOE in connection with the 1998 Report, resulting in a public comment period equal to 56 calendar days.

DOE also received comments and a request for a 60-day extension on August 6, 2021, from the Natural Resources Defense Council (“NRDC”), on behalf of the combined membership of NRDC, Nuclear Information and Resources Service, Beyond Nuclear, and Savannah River Site Watch. NRDC stated that given the significance of the PAA to the framework of the nuclear industry and the range of economic, technical, policy and legal considerations raised in the NOI, an extension of the public period is warranted to provide its members and other stakeholders sufficient time to consider, deliberate and formulate comments in response to the NOI. NRDC particularly noted the need for a meaningful review period in order to evaluate and address impacts of the PAA in regard to the vital topic of environmental justice, equity, and inclusion, and the evolving and developing technologies in the nuclear industry, such as small modular reactors and potential as-yet unused nuclear fuels.

DOE has determined that extension of the comment period is appropriate based on the foregoing reasons and is hereby extending the comment period to October 25, 2021. Given the importance of proceeding in a timely manner toward development of the 2021 Report that is due to Congress by December 31, 2021, DOE does not intend to grant any further extensions. Accordingly, DOE will consider any comments received by October 25, 2021.

Signing Authority

This document of the Department of Energy was signed on August 10, 2021, by John T. Lucas, Acting General Counsel, Office of the General Counsel, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC on August 11, 2021.
Treena V. Garrett,
Federal Register Liaison Officer, U.S. Department of Energy.

[FR Doc. 2021-17440 Filed 8-13-21; 8:45 am]

BILLING CODE 6450-01-P